DEPARTMENT OF HOMELAND SECURITY

Federal Emergency Management Agency

[Docket ID FEMA-2014-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arizona:
Maricopa (FEMA Docket No.: B-1407) | City of Phoenix (13-09-2437P) | The Honorable Greg Stanton, Mayor, City of Phoenix, 200 West Washington Street, 11th Floor, Phoenix, AZ 85003 | Street Transportation Department, 200 West Washington Street, 5th Floor, Phoenix, AZ 85003 | April 11, 2014 | 040051
Maricopa (FEMA Docket No.: B-1407) | Town of Queen Creek (13-09-2145P) | The Honorable Gail Barney, Mayor, Town of Queen Creek, 22350 South Ellsworth Road, Queen Creek, AZ 85142 | Town Hall, 22350 South Ellsworth Road, Queen Creek, AZ 85142 | April 18, 2014 | 040132
Maricopa (FEMA Docket No.: B-1407) | Unincorporated areas of Maricopa County (13-09-2145P) | The Honorable Andy Kunasek, Chairman, Maricopa County Board of Supervisors, 301 West Jefferson, 10th Floor, Phoenix, AZ 85003 | Maricopa County Flood Control District, 2801 West Durango Street, Phoenix, AZ 85009 | April 18, 2014 | 040037
Pinal (FEMA Docket No.: B-1403) | City of Apache Junction (13-09-1704P) | The Honorable John Insalaco, Mayor, City of Apache Junction, 300 East Superstition Boulevard, Apache Junction, AZ 85119 | City Hall, 1001 North Idaho Road, Apache Junction, AZ 85219 | March 25, 2014 | 040120
Santa Cruz (FEMA Docket No.: B-1407) | Town of Patagonia (13-09-2232P) | The Honorable Ike Isakson, Mayor, Town of Patagonia, P.O. Box 767, Patagonia, AZ 85624 | Town Clerk's Office, 310 West McKeown Avenue, Patagonia, AZ 85624 | April 9, 2014 | 040092
Santa Cruz (FEMA Docket No.: B-1407) | Unincorporated areas of Santa Cruz County (13-09-2232P) | The Honorable Manuel Ruiz, Chairman, Santa Cruz County Board of Supervisors, 2150 North Congress Drive, Nogales, AZ 85621 | Santa Cruz County Flood Control District, 2150 North Congress Drive, Nogales, AZ 85621 | April 9, 2014 | 040090
California:
Orange (FEMA Docket No.: B-1403) | City of Irvine (13-09-3195P) | The Honorable Steven S. Choi, Ph.D., Mayor, City of Irvine, 1 Civic Center Plaza, Irvine, CA 92606 | Public Works Department, Development Engineering, 1 Civic Center Plaza, 2nd Floor, Irvine, CA 92606 | March 21, 2014 | 060222
Riverside (FEMA Docket No.: B-1407) | City of Murrieta (12-09-2519P) | The Honorable Rick Gibbs, Mayor, City of Murrieta, 1 Town Square, Murrieta, CA 92562 | Department of Public Works and Engineering, 1 Town Square, Murrieta, CA 92562 | April 7, 2014 | 060751
Solano (FEMA Docket No.: B-1407) | City of Vacaville (13-09-3024P) | The Honorable Steve Hardy, Mayor, City of Vacaville, 650 Merchant Street, Vacaville, CA 95688 | Public Works and Engineering Department, 650 Merchant Street, Vacaville, CA 95688 | March 28, 2014 | 060373
Colorado:
Denver (FEMA Docket No.: B-1403) | City and County of Denver (13-08-1197P) | The Honorable Michael B. Hancock, Mayor, City and County of Denver, 1437 Bannock Street, Suite 350, Denver, CO 80202 | Department of Public Works, 201 West Colfax Avenue, Denver, CO 80202 | March 21, 2014 | 080046
El Paso (FEMA Docket No.: B-1407) | City of Colorado Springs (13-08-0960P) | The Honorable Steve Bach, Mayor, City of Colorado Springs, 30 South Nevada Avenue, Colorado Springs, CO 80903 | Floodplain Administrator, 2880 International Circle, Colorado Springs, CO 80910 | April 11, 2014 | 080060
El Paso (FEMA Docket No.: B-1407) | Unincorporated areas of El Paso County (13-08-0960P) | The Honorable Dennis Hisey, Chairman, El Paso County Board of Commissioners, 200 South Cascade Avenue, Suite 100, Colorado Springs, CO 80903 | El Paso County Floodplain Administrator, 2880 International Circle, Colorado Springs, CO 80910 | April 11, 2014 | 080059
Florida:
Brevard (FEMA Docket No.: B-1407) | Unincorporated areas of Brevard County (13-04-4473P) | The Honorable Andy Anderson, Brevard County Commissioner, 2725 Judge Fran Jamieson Way, Viera, FL 32940 | Brevard County Public Works Department, Brevard County Government Center, 2725 Judge Fran Jamieson Way, Viera, FL 32940 | May 5, 2014 | 125092
Charlotte (FEMA Docket No.: B-1407) | Unincorporated areas of Charlotte County (13-04-5518P) | The Honorable Christopher Constance, Chairman, Charlotte County Board of Commissioners, 18500 Murdock Circle, Suite 536, Port Charlotte, FL 33948 | Charlotte County Community Development Department, 18500 Murdock Circle, Suite 536, Port Charlotte, FL 33948 | April 18, 2014 | 120061
Charlotte (FEMA Docket No.: B-1407) | Unincorporated areas of Charlotte County (13-04-7424P) | The Honorable Christopher Constance, Chairman, Charlotte County Board of Commissioners, 18500 Murdock Circle, Suite 536, Port Charlotte, FL 33948 | Charlotte County Community Development Department, 18500 Murdock Circle, Suite 536, Port Charlotte, FL 33948 | March 28, 2014 | 120061
Escambia (FEMA Docket No.: B-1403) | Unincorporated areas of Escambia County (13-04-7319P) | The Honorable Gene M. Valentino, Chairman, Escambia County Board of Commissioners, 221 Palafox Place, Suite 400, Pensacola, FL 32502 | Escambia County Development Services Department, 3363 West Park Place, Pensacola, FL 32505 | March 26, 2014 | 120080
Escambia (FEMA Docket No.: B-1403) | Unincorporated areas of Escambia County (13-04-7654P) | The Honorable Gene M. Valentino, Chairman, Escambia County Board of Commissioners, 221 Palafox Place, Suite 400, Pensacola, FL 32502 | Escambia County Development Services Department, 3363 West Park Place, Pensacola, FL 32505 | March 26, 2014 | 120080
Miami-Dade (FEMA Docket No.: B-1407) | City of Sunny Isles Beach (13-04-6621P) | The Honorable Norman S. Edelcup, Mayor, City of Sunny Isles Beach, 18070 Collins Avenue, Suite 250, Sunny Isles Beach, FL 33160 | City Hall, 18070 Collins Avenue, Suite 250, Sunny Isles Beach, FL 33160 | March 28, 2014 | 120688
Monroe (FEMA Docket No.: B-1407) | Unincorporated areas of Monroe County (13-04-5320P) | The Honorable George Neugent, Mayor, Monroe County, 1100 Simonton Street, Key West, FL 33040 | Monroe County Building Department, 2798 Overseas Highway, Marathon, FL 33050 | March 14, 2014 | 125129
Pinellas (FEMA Docket No.: B-1403) | City of Dunedin (13-04-5166P) | The Honorable Dave Eggers, Mayor, City of Dunedin, 542 Main Street, Dunedin, FL 34698 | Engineering Department, 542 Main Street, Dunedin, FL 34698 | March 20, 2014 | 125103
Pinellas (FEMA Docket No.: B-1407) | City of Treasure Island (13-04-6622P) | The Honorable Robert Minning, Mayor, City of Treasure Island, 120 108th Avenue, Treasure Island, FL 33706 | Building Department, 120 108th Avenue, Treasure Island, FL 33706 | April 3, 2014 | 125153
Sarasota (FEMA Docket No.: B-1403) | Unincorporated areas of Sarasota County (13-04-5170P) | The Honorable Carolyn J. Mason, Chair, Sarasota County Commission, 1660 Ringling Boulevard, Sarasota, FL 34236 | Sarasota County Stormwater Management Department, 1001 Sarasota Center Boulevard, Sarasota, FL 34240 | March 21, 2014 | 125144
Sumter (FEMA Docket No.: B-1407) | Unincorporated areas of Sumter County (13-04-4550P) | The Honorable Doug Gilpin, Chairman, Sumter County Board of Commissioners, 7375 Powell Road, Wildwood, FL 34785 | Sumter County Planning Department, 7375 Powell Road, Wildwood, FL 34785 | April 11, 2014 | 120296
Georgia:
Fannin (FEMA Docket No.: B-1407) | Unincorporated areas of Fannin County (13-04-3830P) | The Honorable Bill Simonds, Chairman, Fannin County Board of Commissioners, 400 West Main Street, Suite 100, Blue Ridge, GA 30513 | Fannin County Government Center, 400 West Main Street, Suite 100, Blue Ridge, GA 30513 | March 27, 2014 | 130249
Fulton (FEMA Docket No.: B-1407) | City of Roswell (13-04-3682P) | The Honorable Jere Wood, Mayor, City of Roswell, 38 Hill Street, Suite 235, Roswell, GA 30075 | Public Works and Environmental Department, 38 Hill Street, Suite 235 Roswell, GA 30075 | April 18, 2014 | 130088
North Carolina:
Alamance (FEMA Docket No.: B-1403) | City of Burlington (14-04-0924P) | The Honorable Ronnie K. Wall, Mayor, City of Burlington, 425 South Lexington Avenue, Burlington, NC 27216 | Inspection Division, 425 South Lexington Avenue, Burlington, NC 27216 | March 31, 2014 | 370002
Alamance (FEMA Docket No.: B-1403) | City of Burlington (14-04-0926P) | The Honorable Ronnie K. Wall, Mayor, City of Burlington, 425 South Lexington Avenue, Burlington, NC 27216 | Inspection Division, 425 South Lexington Avenue, Burlington, NC 27216 | March 31, 2014 | 370002
Gaston (FEMA Docket No.: B-1403) | City of Gastonia (14-04-0932P) | The Honorable John Bridgeman, Mayor, City of Gastonia, P.O. Box 1748, Gastonia, NC 28053 | Garland Municipal Business Center, 150 South York Street, Gastonia, NC 28052 | April 5, 2014 | 370100
Guilford (FEMA Docket No.: B-1403) | City of Greensboro (14-04-0935P) | The Honorable Robbie Perkins, Mayor, City of Greensboro, P.O. Box 3136, Greensboro, NC 27402 | Central Library, 219 North Church Street, Greensboro, NC 27401 | April 5, 2014 | 375351
Guilford (FEMA Docket No.: B-1403) | Unincorporated areas of Guilford County (14-04-0935P) | The Honorable Linda O. Shaw, Chair, Guilford County Board of Commissioners, P.O. Box 3427, Greensboro, NC 27402 | Independent Center, 400 West Market Street, Greensboro, NC 27402 | April 5, 2014 | 370111
Lee (FEMA Docket No.: B-1407) | Unincorporated areas of Lee County (14-04-0349P) | Mr. John Crumpton, Lee County Manager, 408 Summit Drive, Sanford, NC 27330 | Lee County GIS, Strategic Services Office, 408 Summit Drive, Sanford, NC 27330 | April 21, 2014 | 370331
South Carolina: Charleston (FEMA Docket No.: B-1407) | City of Charleston (13-04-6316P) | The Honorable Joseph P. Riley, Jr., Mayor, City of Charleston, P.O. Box 652, Charleston, SC 29402 | Department of Public Services, 75 Calhoun Street, 3rd Floor, Charleston, SC 29401 | May 5, 2014 | 455412
South Dakota: Lawrence (FEMA Docket No.: B-1407) | City of Deadwood (13-08-1250P) | The Honorable Charles Turbiville, Mayor, City of Deadwood, 102 Sherman Street, Deadwood, SD 57732 | Planning and Zoning Department, 108 Sherman Street, Deadwood, SD 57732 | April 7, 2014 | 460045
Tennessee: Sevier (FEMA Docket No.: B-1403) | City of Sevierville (13-04-7165P) | The Honorable Bryan C. Atchley, Mayor, City of Sevierville, 120 Gary Wade Boulevard, Sevierville, TN 37862 | City Hall, 120 Gary Wade Boulevard, Sevierville, TN 37862 | March 28, 2014 | 475444
Utah:
Utah (FEMA Docket No.: B-1403) | City of Lehi (13-08-0558P) | The Honorable Bert Wilson, Mayor, City of Lehi, 153 North 100 East, Lehi, UT 84043 | Building and Planning Department, 99 West Main Street, Suite 100, Lehi, UT 84043 | March 20, 2014 | 490209
Utah (FEMA Docket No.: B-1403) | City of Saratoga Springs (13-08-0558P) | The Honorable Mia Love, Mayor, City of Saratoga Springs, 1307 North Commerce Drive, Suite 200, Saratoga Springs, UT 84045 | Planning and Zoning Department, 1307 North Commerce Drive, Suite 200, Saratoga Springs, UT 84045 | March 20, 2014 | 490250
Utah (FEMA Docket No.: B-1403) | Unincorporated areas of Utah County (13-08-0558P) | The Honorable Doug Whitney, Chairman, Utah County Board of Commissioners, 100 East Center Street, Suite 2300, Provo, UT 84606 | Utah County Public Works Department, 2855 South State Street, Provo, UT 84606 | March 20, 2014 | 495517

(Catalog of Federal Domestic Assistance No. 97.022, “Flood Insurance.”)

Dated: May 13, 2014.
Roy E. Wright,
Deputy Associate Administrator for Mitigation, Department of Homeland Security, Federal Emergency Management Agency.

[FR Doc. 2014-13888 Filed 6-12-14; 8:45 am]

BILLING CODE 9110-12-P